DEPARTMENT OF ENERGY

Federal Energy Regulatory Commission

[Project No. 1494-433]

Grand River Dam Authority; Notice Granting Waiver Request To Reduce Comment Period From 60 to 30 Days on Draft Amendment Application

Take notice that the following hydroelectric application has been filed with the Commission and is available for public inspection:

a. Application Type: Request to reduce the comment period from 60 to 30 days for a draft amendment application to permanently modify the reservoir elevation rule curve under Article 401 of the project license.

b. Project No: 1494-433.

c. Date Filed: March 15, 2016.

d. Applicant: Grand River Dam Authority (GRDA).

e. Name of Project: Pensacola Hydroelectric Project.

f. Location: The project is located on the Grand River in Craig, Delaware, Mayes, and Ottawa Counties, Oklahoma.

g. Filed Pursuant to: Federal Power Act, 16 U.S.C. 791(a)-825(r).

h. Applicant Contact: Tamara Jahnke, Grand River Dam Authority, 226 West Dwain Willis Ave., P.O. Box 409, Vinita, OK 74301; telephone (918) 256-5545.

i. FERC Contact: B. Peter Yarrington, telephone (202) 502-6129 and email peter.yarrington@ferc.gov; or Linda Stewart, telephone (202) 502-6680 and email linda.stewart@ferc.gov.

j. Description of Waiver Request and Decision: On March 15, 2016, GRDA filed with the Commission: (1) A draft amendment application to permanently modify the reservoir elevation rule curve under Article 401 of the Pensacola Project for Grand Lake O' the Cherokees, (2) a request for a temporary variance contained in the draft amendment application, and (3) a waiver request to reduce from 60 to 30 days the comment period for resource agencies, Indian tribes, and other stakeholders to provide comments to GRDA on its draft of the amendment application mentioned above before GRDA files it with the Commission. The Commission's regulations at 4.38(a)(7) require GRDA to provide resource agencies, Indian tribes, and other stakeholders 60 days to provide comments on the draft amendment application. GRDA requests Commission approval of a 30-day comment period to expedite the Commission's review of any final application filed with the Commission.

The Commission issued a public notice of GRDA's waiver request on March 16, 2016 requesting comments, motions to intervene, and protests by March 31, 2016. The Modoc Tribe of Oklahoma filed a protest and comments on March 31, 2016. However, the protest and comments are related to any final amendment application GRDA may file with the Commission. The protest and comments did not address the waiver request described in the Commission's public notice. No other protests or comments were received. Since there were no objections to GRDA's waiver request to reduce the comment period from 60 to 30 days as described above, the waiver is approved and comments on GRDA's draft amendment application must be submitted to GRDA within the requested 30-day period (due by April 14, 2016).

Note that the Modoc Tribe's concerns and comments contained in its March 31, 2016 letter, have been filed with the Commission and will be considered in the Commission's review of any final amendment application GRDA files with the Commission.

Dated: April 5, 2016.
Nathaniel J. Davis, Sr.,
Deputy Secretary.

[FR Doc. 2016-08412 Filed 4-12-16; 8:45 am]

BILLING CODE 6717-01-P